FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
002178F | Leschaco, Inc., One Evertrust Plaza, Suite 304, Jersey City, NJ 07302 | January 18, 2012.
003729F | Tratto International Forwarders Corporation, 801 Madrid Street, Suite 1, Miami, FL 33134 | January 20, 2012.
022436NF | RLE International, Inc., 1400 NW 96th Avenue, Suite 106, Doral, FL 33172 | January 20, 2012.

Vern W. Hill,
Director, Bureau of Certification and Licensing.

[FR Doc. 2012-4945 Filed 2-29-12; 8:45 am]

BILLING CODE P